FEDERAL COMMUNICATIONS COMMISSION

47 CFR Parts 1, 2, 87 and 101

[WT Docket No. 99-327, FCC 00-272]

24 GHz Service; Licensing and Operation

AGENCY: Federal Communications Commission.

ACTION: Final rule; announcement of effective date.

SUMMARY: This document is to show rules amended by the Commission in order to implement licensing and operation of the 24 GHz band, shall become effective February 22, 2001. These sections, which contained new information collection requirements, were published in the Federal Register December 28, 2000, (OMB No. 3060-0963). This is to let the public know the effective date of the rules that contain new information collection requirements.

EFFECTIVE DATE: The amendments to 47 CFR 101.527 and 101.529 published at 65 FR 59350 (October 5, 2000) are effective February 22, 2001.

FOR FURTHER INFORMATION CONTACT: Jim Shaffer, Public Safety and Private Wireless Division, Wireless Telecommunications Bureau, (202) 418-0680.

SUPPLEMENTARY INFORMATION: On July 25, 2000, the Commission adopted a Report and Order (“Order”) (FCC 00-272) to implement licensing and operation of the 24.25-24.45 GHz and 25.05-25.25 GHz bands, a summary of which was published in the Federal Register. See 65 FR 59350 (October 5, 2000). We stated that the Port 101 of the Commission's rules, 47 CFR Part 101, is amended effective December 4, 2000, except for §§ 101.527 and 101.529 which contains information collections that are not effective until approved by the Office of Management and Budget. We also stated that the Commission will publish a document in the Federal Register announcing the effective date for those sections. This statement requires further action by the Commission to establish the effective date, notwithstanding the preceding statement in the summary that the rule change would become effective upon OMB approval. In order to resolve this matter in a manner that most appropriately provides interested parties with proper notice, the rule changes adopted in the Order shall become effective February 22, 2001. The information collection was approved by OMB on December 1, 2000. See OMB No. 3060-0963.

List of Subjects in 47 CFR Part 90

Communications equipment, Radio, Reporting and recordkeeping requirements.

Federal Communications Commission.
Magalie Roman Salas,
Secretary.

[FR Doc. 01-4320 Filed 2-21-01; 8:45 am]

BILLING CODE 6712-01-M